DEPARTMENT OF STATE

22 CFR Part 121

[Public Notice (4126)]

Amendments of the United States Munitions List

AGENCY: Department of State.

ACTION: Final rule.

SUMMARY: The Department of State is revising Category XV—Spacecraft Systems and Associated Equipment—of the U.S. Munitions List (USML). This regulation clarifies that certain “space qualified” items are covered by the USML within the International Traffic in Arms Regulations (ITAR).

EFFECTIVE DATE: September 23, 2002.

FOR FURTHER INFORMATION CONTACT: Ms. Ann Ganzer, Office of Defense Trade Controls, Department of State, Telephone 202-663-27009 or FAX 202-261-8199. ATTN: Regulatory Change, USML Part 121, Category XV.

SUPPLEMENTARY INFORMATION: The Departments of Commerce, Defense, State and the National Security staff recently completed a review of licensing jurisdiction for “space qualified” items. This amendment specifies the relevant details and technical parameters associated with those “space qualified” items covered by Category XV-Spacecraft Systems and Associated Equipment of the USML, which are under the jurisdiction of the Department of State. The Department of Commerce will also be publishing a final rule addressing which “space qualified” items are covered by the Commerce Control List (CCL). Consequently, this will permit State to resume responding to requests for commodity jurisdiction determinations related to space technology, which have been deferred pending inter-agency agreement on the broader question of which agency has jurisdiction over which “space qualified” items.

This amendment involves a foreign affairs function of the United States and, therefore, is not subject to the procedures required by 5 U.S.C. 553 and 554. It is exempt from review under Executive Order 12866; but has been reviewed internally by the Department of State to ensure consistency with the purposes thereof. This rule does not require analysis under the Regulatory Flexibility Act or the Unfunded Mandates Reform Act. It has been found not to be a major rule within the meaning of the Small Business Regulatory Enforcement Act of 1966. It will not have substantial direct effects on the States, the relationship between the National Government and the States, or on the distribution of power and responsibilities among the various levels of government. Therefore, in accordance with section 6 of Executive Order 13132, it is determined that this rule does not have sufficient federalism implications to warrant application of Executive Orders Nos. 12372 and 13123. However, affected U.S. persons are invited to submit written comments to the Department of State, Office of Defense Trade Controls, ATTN: Ann Ganzer, Regulatory Change, USML Part 121, Category XV, 12th Floor, SA-1, Washington, DC 20522-0112.

List of Subjects in 22 CFR Part 121

Arms and munitions, Exports.

Accordingly, for the reasons set forth above, Title 22, Chapter I, Subchapter M, Part 121, is amended as follows:

PART 121—THE UNITED STATES MUNITIONS LIST

1. The authority citation for Part 121 continues to read as follows:

Authority: Sec. 2, 38, and 71, Pub. L. 90-629, 90 Stat. 744 (22 U.S.C. 2752, 2278, 2797); E.O. 11958, 42 FR 4311; 3 CFR, 1977 Comp. p. 79; 22 U.S.C. 2658; Pub. L. 105-261, 112 Stat. 1920.

2. In § 121.1, Category XV—Spacecraft Systems and Associated Equipment is amended by revising paragraph (e) to read as follows:

§ 121.1 General. The United States Munitions List.

* * * * *

Category XV—Spacecraft Systems and Associated Equipment

* * * * *

(e) All specifically designed or modified systems or subsystems, components, parts, accessories, attachments, and associated equipment for the articles in this category, including the articles identified in section 1516 of Public Law 105-261: satellite fuel, ground support equipment, test equipment, payload adapter or interface hardware, replacement parts, and non-embedded solid propellant orbit transfer engines (see also Categories IV and V in this section).

Note: This coverage by the U.S. Munitions List does not include the following unless specifically designed or modified for military application (see § 120.3 of this subchapter): (For controls on these items see the Export Administration Regulations, Commerce Control List (15 CFR Parts 730 through 799).)

(1) Space qualified travelling wave tubes (also known as helix tubes or

TWTs), microwave solid state amplifiers, microwave assemblies, and travelling wave tube amplifiers operating at frequencies equal to or less than 31GHz.

(2) Space qualified photovoltaic arrays having silicon cells or having single, dual, triple junction solar cells that have gallium arsenide as one of the junctions.

(3) Space qualified tape recorders.

(4) Atomic frequency standards that are not space qualified.

(5) Space qualified data recorders.

(6) Space qualified telecommunications systems, equipment and components not designed or modified for satellite uses.

(7) Technology required for the development or production of telecommunications equipment specifically designed for non-satellite uses.

(8) Space qualified focal plane arrays having more than 2048 elements per array and having a peak response in the wavelength range exceeding 300nm but not exceeding 900nm.

(9) Space qualified laser radar or Light Detection and Ranging (LIDAR) equipment.

* * * * *

Dated: August 22, 2002.
John R. Bolton,
Under Secretary, Arms Control and International Security, Department of State.

[FR Doc. 02-23714 Filed 9-20-02; 8:45 am]

BILLING CODE 4710-25-P